DEPARTMENT OF THE TREASURY

Office of the Comptroller of the Currency

Agency Information Collection Activities: Information Collection Renewal; Submission for OMB Review; Interagency Appraisal Complaint Form; Correction

AGENCY: Office of the Comptroller of the Currency, Treasury (OCC).

ACTION: Notice and request for comment; correction.

SUMMARY: The Office of the Comptroller of the Currency (OCC) published a document in the Federal Register of March 4, 2019, concerning a request for comment on an interagency appraisal complaint form. The document contained an incorrect date.

FOR FURTHER INFORMATION CONTACT: Shaquita Merritt, OCC Clearance Officer, (202) 649-5490, Chief Counsel's Office, Office of the Comptroller of the Currency, 400 7th Street SW, Washington, DC 20219.

SUPPLEMENTARY INFORMATION:

Correction

In the Federal Register of March 4, 2019, in FR Doc. 2019-03843, on page 7415, in the third column, correct the “Dates” caption to read:

DATES:

Comments must be received by April 8, 2019.

Dated: March 4, 2019.
Theodore J. Dowd,
Deputy Chief Counsel, Office of the Comptroller of the Currency.

[FR Doc. 2019-04237 Filed 3-7-19; 8:45 am]

BILLING CODE 4810-33-P